DEPARTMENT OF COMMERCE

National Oceanic and Atmospheric Administration

[I.D. 040201B]

Endangered Species; Permits

AGENCY: National Marine Fisheries Service (NMFS), National Oceanic and Atmospheric Administration (NOAA), Commerce.

ACTION: NMFS has issued permits 1237 and 1273.

SUMMARY: Notice is hereby given of the following actions regarding permits for takes of endangered and threatened species for the purposes of scientific research and/or enhancement under the Endangered Species Act (ESA): NMFS has issued a permit to the Walla Walla District of the U.S. Army Corps of Engineers at Walla Walla, WA (Corps), and NMFS has issued permit #1273 to Mr. Chris Ivers of the North Carolina Aquarium Division (NCAD) (1273).

ADDRESSES: The Permits and related documents are available for review in the indicated office, by appointment:

For permit 1273: Endangered Species Division, F/PR3, 1315 East West Highway, Silver Spring, MD 20910 (phone:301-713-1401, fax: 301-713-0376).

For permits 1237: Protected Resources Division, F/NWO3, 525 NE Oregon Street, Suite 500, Portland, OR 97232-2737 (phone: 503-230-5400, fax: 503-230-5435).

Documents may also be reviewed by appointment in the Office of Protected Resources, F/PR3, NMFS, 1315 East-West Highway, Silver Spring, MD 20910-3226 (phone:301-713-1401).

FOR FURTHER INFORMATION CONTACT: For permit 1273: Terri Jordan, Silver Spring, MD (phone: 301-713-1401, fax: 301-713-0376, e-mail: Terri.Jordan@noaa.gov)

For permit 1237: Robert Koch, Portland, OR (ph: 503-230-5424, fax: 503-230-5435, e-mail: Robert.Koch@noaa.gov).

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Scientific research and/or enhancement permits are issued under Section 10(a)(1)(A) of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species and evolutionarily significant units (ESU's) are covered in this notice:

Fish

Sockeye salmon (Oncorhynchus nerka): endangered Snake River (SnR).

Chinook salmon (O. tshawytscha): threatened, naturally produced and artificially propagated, SnR spring/summer; threatened SnR fall.

Steelhead (O. mykiss): threatened SnR.

Endangered Shortnose Sturgeon (Acipenser brevirostrum)

Permits and Modified Permits Issued

Permit 1237

Notice was published on February 16, 2000 (65 FR 7855) that the Corps applied for an enhancement permit (1237). Permit 1237 was issued to the Corps on March 22, 2001. Permit 1237 authorizes the Corps annual takes of ESA-listed juvenile salmon and steelhead associated with transporting juvenile anadromous fish around the dams and past the reservoirs on the mainstem lower Snake and Columbia Rivers in the Pacific Northwest. The purpose of the Corps’ Juvenile Fish Transportation Program is to increase juvenile fish survival over the alternative of in-river passage, given current in-river migratory conditions. The collection and transportation of juvenile salmonids is projected to occur approximately March 25 through October 31 each year at Lower Granite, Little Goose, and Lower Monumental Dams on the lower Snake River, and approximately early to mid-June through December 15 each year at McNary Dam on the lower Columbia River. The Corps will load the juvenile fish into aerated trucks and barges for transportation to below Bonneville Dam on the Columbia River. Further handling of the fish does not occur, except for loading via raceways or when the fish are handled for monitoring purposes by Corps personnel or for scientific research purposes by individuals holding separate take authorizations. Annual takes of ESA-listed adult fish associated with handling fallbacks at the juvenile fish transportation facilities are also authorized. Permit 1237 expires on December 31, 2005.

Permit 1273

Notice was published on December 7, 2000 (65 FR 76612) that Mr. Chris Ivers, of NCAD applied for an enhancement permit (1273). NCAD proposes to continue to maintain 17 endangered shortnose sturgeon for the purposes of public education through species enhancement as identified in the Final Recovery Plan for Shortnose Sturgeon. Permit 1273 was issued on March 24, 2001, authorizing take of listed species. Permit 1273 expires March 1, 2006.

Dated: April 3, 2001.
Phil Williams,
Acting Chief, Endangered Species Division, Office of Protected Resources, National Marine Fisheries Service.

[FR Doc. 01-8656 Filed 4-6-01; 8:45 am]

BILLING CODE 3510-22-S